DEPARTMENT OF COMMERCE

National Oceanic and Atmospheric Administration

[RTID 0648-XB195]

Mid-Atlantic Fishery Management Council (MAFMC); Public Meeting

AGENCY: National Marine Fisheries Service (NMFS), National Oceanic and Atmospheric Administration (NOAA), Commerce.

ACTION: Notice; public meeting.

SUMMARY: The Scientific and Statistical Committee (SSC) of the Mid-Atlantic Fishery Management Council (Council) will hold a meeting.

DATES: The meeting will be held on Wednesday, July 21, 2021, starting at 12:30 p.m. and continue through 12:30 p.m. on Friday, July 23, 2021. For agenda details, see SUPPLEMENTARY INFORMATION.

ADDRESSES: The meeting will take place over webinar using the Webex platform with a telephone-only connection option. Details on how to connect to the webinar by computer and by telephone will be available at: http://www.mafmc.org/ssc.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of this meeting is to make multi-year acceptable biological catch (ABC) recommendations for Golden Tilefish, Atlantic Mackerel, Summer Flounder, Scup, Black Sea Bass, and Bluefish based on the results of the recently completed management track stock assessment updates. The SSC will review the previously recommended 2022 ABC and recommend new 2023-24 ABC specifications for Golden Tilefish; recommend 2022-23 rebuilding ABC specifications for Atlantic Mackerel and Bluefish; and recommend new 2022-23 ABC specifications for Summer Flounder, Scup, and Black Sea Bass. The SSC Economic Work Group will update the full SSC on the latest developments and current status of Research Set-Aside economic case study. The SSC will also discuss potential topics to be covered during the joint Council-SSC meeting scheduled to take place as part of the August 2021 Council meeting. In addition, the SSC may take up any other business as necessary. Meeting materials will be posted to www.mafmc.org.

Special Accommodations

The meeting is physically accessible to people with disabilities. Requests for sign language interpretation or other auxiliary aid should be directed to Kathy Collins at the Mid-Atlantic Council Office (302) 526-5253 at least 5 days prior to the meeting date.

Dated: June 25, 2021.
Tracey L. Thompson,
Acting Deputy Director, Office of Sustainable Fisheries, National Marine Fisheries Service.

[FR Doc. 2021-13984 Filed 6-29-21; 8:45 am]

BILLING CODE 3510-22-P